FEDERAL COMMUNICATIONS COMMISSION

47 CFR Part 73

[DA 05-1304; MB Docket No. 04-428, RM-11124]

Radio Broadcasting Services; Clatskanie, OR; Ilwaco and Long Beach, WA

AGENCY: Federal Communications Commission.

ACTION: Final rule.

SUMMARY: The Audio Division, at the request of Portmeirion Partners allots Channel 225C3 at Clatskanie, Oregon, as the community's first local service. See 69 FR 75016, published December 15, 2004. Channel 225C3 can be allotted to Clatskanie, consistent with the minimum distance separation requirements of the Commission's rules at a restricted site located 21.5 kilometers (13.3 miles) north of the community. The reference coordinates for Channel 225C3 at Clatskanie are 46-17-44 North Latitude and 123-14-13 West Longitude. A filing window for Channel 225C3 at Clatskanie, Oregon will not be opened at this time. Instead, the issue of opening a filing window for this channel will be addressed by the Commission in a subsequent order. To accommodate the Clatskanie allotment, the Audio Division orders the substitution of Channel 259A for Channel 224A at Long Beach, California, and modification of the license for Station KAQX(FM) to reflect the channel change. Additionally, the Audio Division orders the substitution of Channel 253A for Channel 259A at Ilwaco, Washington to facilitate the Long Beach channel substitution.

DATES: Effective June 20, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-428, adopted May 4, 2005, and released May 6, 2005. The full text of this Commission decision is available for inspection and copying during normal business hours in the Commission's Reference Center 445 Twelfth Street, SW., Washington, DC 20554. This document may also be purchased from the Commission's duplicating contractors, Best Copy and Printing, Inc., 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Oregon, is amended by adding Clatskanie, Channel 225C3.

3. Section 73.202(b), the Table of FM Allotments under Washington, is amended by removing Channel 259A and by adding Channel 253A at Ilwaco, and by removing Channel 224A and by adding Channel 259A at Long Beach.

Federal Communications Commission.
John A. Karousos,
Assistant Chief, Audio Division, Media Bureau.

[FR Doc. 05-10235 Filed 5-24-05; 8:45 am]

BILLING CODE 6712-01-P